NATIONAL SCIENCE FOUNDATION

Special Emphasis Panel in Civil and Mechanical Systems; Notice of Meeting

In accordance with the Federal Advisory Committee Act (Pub. L. 92-463, as amended), the National Science Foundation announces the following meeting:

Name: Special Emphasis Panel in Civil and Mechanical Systems (1205).

Date/Time: Tuesday, March 27, 2001, 8:30 a.m. to 5 p.m. Wednesday, March 28, 2001, 8:30 a.m. to 5 p.m.

Place: National Science Foundation, 4201 Wilson Boulevard, Room 530, Arlington, VA.

Type of Meeting: Closed.

Contact Person: Dr. Jorn Larsen-Basse, Program Director, Surface Engineering and Materials Design, Division of Civil and Mechanical Systems, Room 545, (703) 292-8360.

Purpose of Meeting: To provide advice and recommendations concerning proposals submitted to NSF for financial support.

Agenda: To review and evaluate nominations for the FY'01 Surface Engineering and Material Design Review Panel as part of the selection process for awards.

Reason for Closing: The proposals being reviewed include information of a proprietary or confidential nature, including technical information, financial data, such as salaries, and personal information concerning individuals associated with the proposals. These matters are exempt under (4) and (6) of U.S.C. 552b(c), of the Government in the Sunshine Act.

Dated: March 1, 2001.
Susanne Bolton,
Committee Management Officer.

[FR Doc. 01-5470 Filed 3-6-01; 8:45 am]

BILLING CODE 7555-01-M